DEPARTMENT OF EDUCATION

[Docket No.: ED-2020-SCC-0008]

Agency Information Collection Activities; Comment Request; Migrant Education Program Regulations and Certificate of Eligibility

AGENCY: Office of Elementary and Secondary Education (OESE), Department of Education (ED).

ACTION: Notice.

SUMMARY: In accordance with the Paperwork Reduction Act of 1995, ED is proposing an extension of an existing information collection.

DATES: Interested persons are invited to submit comments on or before March 9, 2020.

ADDRESSES: To access and review all the documents related to the information collection listed in this notice, please use http://www.regulations.gov by searching the Docket ID number ED-2020-SCC-0008. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave SW, LBJ, Room 6W-208D, Washington, DC 20202-4537.

FOR FURTHER INFORMATION CONTACT: For specific questions related to collection activities, please contact Sarah Martinez, 202-260-1334.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Migrant Education Program Regulations and Certificate of Eligibility.

OMB Control Number: 1810-0662.

Type of Review: An extension of an existing information collection.

Respondents/Affected Public: Individuals or Households; State, Local, and Tribal Governments.

Total Estimated Number of Annual Responses: 121,658.

Total Estimated Number of Annual Burden Hours: 228,135.

Abstract: This collection of information is necessary to collect information under the Title I, Part C Migrant Education Program (MEP). The MEP is authorized under sections 1301-1309 of Part C of Title I of the Elementary and Secondary Education Act of 1965, as amended (ESEA). Regulations for the MEP are found at 34 CFR 200.81-200.89. This information collection covers regulations with information collection requirements that State educational agencies (SEAs) must collect in order to properly administer the MEP. Specifically, the regulations in 34 CFR 200.83, 200.84, 200.88, and 200.89(b)-(d). Most provisions do not require SEAs to submit the information collected to the Department, with the exception of the provisions under 34 CFR 200.89(b).

There is one additional MEP regulatory section, 34 CFR 200.85, which contains information collection requirements. Those information collection requirements, which pertain to the Migrant Student Information Exchange (MSIX), are covered by OMB No. 1810-0683.

Dated: January 3, 2020.
Kate Mullan,
PRA Coordinator, Strategic Collections and Clearance, Governance and Strategy Division, Office of Chief Data Officer.

[FR Doc. 2020-00123 Filed 1-8-20; 8:45 am]

BILLING CODE 4000-01-P